DEPARTMENT OF THE INTERIOR

National Park Service

[NPS-WASO-NRNHL-18161; PPWOCRADI0, PCU00RP14.R50000]

National Register of Historic Places; Notification of Pending Nominations and Related Actions

Nominations for the following properties being considered for listing or related actions in the National Register were received by the National Park Service before April 10, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 21, 2015. Before including your address, phone number, email address, or other personal identifying information in your comment, you should be aware that your entire comment—including your personal identifying information—may be made publicly available at any time. While you can ask us in your comment to withhold your personal identifying information from public review, we cannot guarantee that we will be able to do so.

Dated: April 17, 2015.
J. Paul Loether,
Chief, National Register of Historic Places/National Historic Landmarks Program.

ARKANSAS

Conway County

Moose Addition Neighborhood Historic District (Boundary Increase), Roughly bounded by S. St. Joseph, E. Green, S. Chestnut, E. Valley, S. Morrill & E. Church Sts., Morrilton, 15000258

West Church Street Historic District, Roughly bounded by S. Morrill, Valley, S. Cherokee & W. Church Sts., Morrilton, 15000259

Poinsett County

Tyronza Methodist Episcopal Church, South, 161 Church St., Tyronza, 15000260

Prairie County

Kocourek and Son Hardware, 110 E. Front St., Hazen, 15000257

MASSACHUSETTS

Plymouth County

Myles Standish Burial Ground, Chestnut St., Duxbury, 15000261

NEW MEXICO

Dona Ana County

Chope's Town Cafe and Bar, 16145 NM 28, La Mesa, 15000262

Otero County

Lee, Oliver, Dog Canyon Ranch, Address Restricted, Alamogordo, 15000263

Santa Fe County

San Jose Hall, 5637 NM 41, Galisteo, 15000264

NEW YORK

Cattaraugus County

Union and State Streets Historic District, Roughly 101-133 N. Union, 110-114, 116 W. State & 102, 116, 120 S. Union Sts., Olean, 15000265

Kings County

Manhattan Beach Jewish Center, 60 West End Ave., Brooklyn, 15000266

Onondaga County

Liverpool Cemetery, 225 6th St., Liverpool, 15000267

Orleans County

Stevens—Sommerfeldt House, 5482 Holley-Byron Rd., Clarendon, 15000268

OREGON

Douglas County

U.S. Army Fort Umpqua, Address Restricted, Corvallis, 15000269

Jefferson County

Cyrus, Enoch and Mary, Homestead and Orchard Site, (Crooked River National Grassland MPS) Hagman Rd., Culver, 15000270

McCoin, Julius and Sarah, Homestead and Orchard Site, (Crooked River National Grassland MPS) FS Rd. 57, Culver, 15000271

Marion County

Olallie Meadows Guard Station, 595 NW. Industrial Way, Estacada, 15000272

Wallowa County

Hoodoo Ridge Lookout, Umatilla NF, Walla Walla District, Troy, 15000273

PUERTO RICO

Adjuntas Municipality

Washington Irving Graded School, (Early 20th Century Schools in Puerto Rico MPS) Rodulfo Gonzalez St., Adjuntas, 15000274

Guanica Municipality

James Garfield Graded School, (Early 20th Century Schools in Puerto Rico MPS) Calle 65th de Infanteria, Guanica, 15000275

Sabana Grande Municipality

James Fenimore Cooper Graded School, (Early 20th Century Schools in Puerto Rico MPS) 20 San Isidro St., Sabana Grande, 15000277

VIRGINIA

Caroline County

Meadow, The, Historic District, 13111 Dawn Blvd., Doswell, 15000276

In the interest of preservation a three day comment period has been requested for a proposed move of the following property:

MASSACHUSETTS

Dukes County

Gay Head Light, (Lighthouses of Massachusetts TR) Lighthouse Rd., Aquinnah, 87001464

[FR Doc. 2015-10530 Filed 5-5-15; 8:45 am]

BILLING CODE 4312-51-P